DEPARTMENT OF TRANSPORTATION

Federal Transit Administration

Notice of Intent To Prepare an Environmental Impact Statement for a Light Rail Operations and Maintenance Satellite Facility, King and Snohomish Counties, Washington

AGENCY: Federal Transit Administration, United States Department of Transportation.

ACTION: Notice of Intent to Prepare an Environmental Impact Statement.

SUMMARY: The Federal Transit Administration (FTA) and the Central Puget Sound Regional Transit Authority (Sound Transit) are planning to prepare an Environmental Impact Statement (EIS) for Sound Transit's proposed new Light Rail Operations and Maintenance Satellite Facility (OMSF). The OMSF would allow Sound Transit to meet future maintenance and storage needs of an expanded fleet of light rail vehicles identified in the Sound Transit 2 (ST2) Plan. The EIS will be prepared in accordance with the National Environmental Policy Act (NEPA) and Washington's State Environmental Policy Act (SEPA). This Notice of Intent initiates scoping for the EIS, invites interested parties to participate in the EIS process, provides information about the preliminary purpose and need for the proposed transit project, includes site alternatives being considered for evaluation in the EIS, and identifies potential environmental effects to be considered. The notice invites public comments on the scope of the EIS and announces the public scoping meetings that will be conducted. Alternatives being considered for evaluation include a No-Build alternative and five sites where the OMSF could be built.

DATES: Written comments on the scope of alternatives and impacts to be considered in the EIS must be received no later than October 22, 2012, and must be sent to Sound Transit as indicated below. Information about the proposed project, the Scoping Information Report, and the EIS process will be available at two public scoping meetings (on Oct. 8 and Oct. 11) and one scoping meeting for tribal and agency representatives (on Oct. 9) at the locations described below. Sound Transit and FTA will accept comments at those meetings.

ADDRESSES: Written comments on the scope of the EIS should be sent to Kent Hale, Senior Environmental Planner, Sound Transit, 401 S. Jackson Street, Seattle, WA 98104-2826, or by email to OMSF@soundtransit.org.

At the public and agency scoping meetings, Sound Transit will provide information on the project along with opportunities for written comments.

1. October 8, 2012, 4:00 p.m.-6:00 p.m., Highland Community Center, 14224 Bel-Red Road, Bellevue, WA.

2. October 11, 2012, 5:00 p.m.-7:00 p.m., Lynnwood Convention Center, 3711 196th St. SW., Lynnwood, WA.

3. (Agency and Tribal Meeting)

October 9, 2012, 1:00 p.m.-3:00 p.m., Sound Transit, 401 S. Jackson Street, Seattle, WA 98104.

Invitations to the interagency and tribal scoping meeting have been sent to appropriate Federal, tribal, state, and local governmental units. All public meeting locations are accessible to persons with disabilities who may also request materials be prepared and supplied in alternate formats by calling Luke Lamon, (206) 903-7469 at least 48 hours in advance of the meeting for Sound Transit to make necessary arrangement. Persons who are deaf or hard of hearing may call (888) 713-6030 TTY. Scoping information as well as general information is available at: http://www.soundtransit.org/OMSF. The scoping period extends to October 22, 2012, or 30 days from the date of this notice, whichever is later. Written scoping comments are requested by October 22, 2012 at the address above, or they can be submitted at the public meetings.

FOR FURTHER INFORMATION CONTACT: Dan Drais, FTA Environmental Protection Specialist, phone: (206) 220-4465.

SUPPLEMENTARY INFORMATION: The Proposed Project. Sound Transit is implementing a system-wide expansion of its Link light rail transit service as part of the Sound Transit 2 (ST2) Plan of transit investments approved by the voters in 2008. To provide the service required by the ST2 Plan, Sound Transit will have to increase its light rail vehicle fleet to approximately 180 vehicles by 2023. Its existing light rail operations and maintenance facility (OMF), located on a 25-acre site south of South Forest Street and west of Airport Way in the industrial area south of Downtown Seattle, is configured to serve up to 104 vehicles.

The Purpose of and Need for the Project. The project's purpose is to enable Sound Transit to meet the maintenance and storage needs of the expanded fleet of light rail vehicles identified in the ST2 Plan. ST2's vehicle acquisition and delivery schedule requires additional capacity to be operational by the end of 2020. The OMSF project will:

• Accommodate expansion of the Link system to Lynnwood, Overlake and South King County (Kent or Des Moines);

• Provide efficient and reliable light rail service and minimize system operating costs; and

• Support regional long-range plans, including the Puget Sound Regional Council's (PSRC) VISION 2040 and Transportation 2040 plans, and Sound Transit's Regional Transit Long-Range Plan.

The project is needed because the existing OMF site cannot store, maintain, or deploy the vehicles associated with the expanded service called for in the ST2 Plan. Sound Transit cannot provide reliable service without adequate maintenance facility capacity. Approximately 180 vehicles are needed for the ST2 expansion; the existing OMF can store only 104 vehicles. Therefore, to implement ST2 the Link system will require more storage area and greater capacity for necessary service, maintenance, and inspection functions. Moreover, the storage and maintenance facility must be sited to support efficient and reliable operations and deployment of vehicles to serve the entire Link system.

Potential EIS Alternatives. Sound Transit and FTA are considering several alternatives for study in the EIS. Potentially viable sites that meet minimum requirements of size, configuration, proximity to the light rail system, and operational feasibility have been identified along the Lynnwood Link Extension and in the East Link Corridor. FTA and Sound Transit invite comments on these preliminary alternatives; public and agency input received during the scoping period will help FTA and Sound Transit develop a range of reasonable alternatives to evaluate in the Draft EIS.

Lynnwood Link Corridor. One site is at 52nd Ave and SW 208th St., north of I-5 and east of 52nd Ave W/Cedar Valley Road in Lynnwood. It is located along all of the proposed Lynnwood Link alignments being evaluated in the Lynnwood Link Extension Draft EIS.

East Link Corridor. Four potential sites are on the East Link alignment in Bellevue: (1) Between the BNSF railway corridor on the west and 120th Ave. NE on the east, south of SR 520 and north of NE 12th St.; (2) south of SR 520 and north of Northup Way/NE 20th St., east of 130th Ave. NE and west of 140th Ave. NE; (3) East of 140th Ave. NE., between NE 20th St. and NE 24th St., and southeast of SR 520; and (4) west of 130th Ave. NE., east of 124th Ave. NE., and south of Northup Way.

No-Build Alternative. NEPA requires consideration of a No-Build Alternative as a baseline against which to measure impacts of the action alternatives. It includes the existing transportation system plus the transportation improvements included in PSRC's Transportation Improvement Program.

Scope of Environmental Analysis. The EIS process explores in a public setting the potentially significant effects of implementing the proposed action (and alternatives to the proposed action) on the physical, human, and natural environment. Areas of investigation for this project may include, but might not be limited to, transportation, land use and consistency with applicable plans, land acquisition and displacements, socioeconomic impacts, park and recreation resources, historic and cultural resources, environmental justice, visual and aesthetic qualities, air quality, noise and vibration, energy use, safety and security, and ecosystems, including threatened and endangered species. These effects will be evaluated for both the construction period and the long-term period of operation. Indirect, secondary and cumulative impacts will also be evaluated. The EIS will identify measures to avoid, minimize, or mitigate significant adverse impacts.

Roles of Participating Agencies and the Public. NEPA, and FTA's own authorities, call for public involvement in the EIS process, including: (1) Invitations to other Federal and non-Federal agencies and Indian tribes that may have an interest in the proposed project to become “cooperating” or “participating agencies,” (2) opportunities for involvement by agencies and the public in helping to define the proposed project's purpose and need, as well as the range of alternatives for consideration in the impact statement, and (3) a plan for coordinating public and agency participation in and comment on the environmental review process.

An invitation to become a participating agency will be extended to other Federal and non-Federal agencies and Indian tribes that may have an interest in the proposed project. Any agency or tribe interested in the project that does not receive such an invitation should promptly notify the Senior Environmental Planner identified above under ADDRESSES.

A draft Coordination Plan for public and agency involvement is available for review at the project Web site. It identifies the project's coordination approach and structure, details the major milestones for agency and public involvement, and includes an initial list of interested agencies and organizations.

FTA and Sound Transit welcome comments from interested individuals, organizations, tribes and agencies. Comments are invited regarding the preliminary statement of purpose and need; the alternatives to be evaluated in the EIS; and any significant environmental issues related to the alternatives. Suggested reasonable alternatives that meet the project purpose and need will be seriously considered. To assist the public during scoping, Sound Transit has prepared an Environmental Scoping Information Report describing the project, potential site alternatives, potential impact areas to be evaluated, and the preliminary EIS schedule. You may request a copy of it from Luke Lamon, Sound Transit, 401 S. Jackson Street, Seattle, WA 98104-2826, telephone: (206) 903-7469 or email: luke.lamon@soundtransit.org. It is also available at http://www.soundtransit.org/OMSF. After the comment period, Sound Transit will publish a summary of the public and agency comments it received. After scoping concludes later this year, the Sound Transit Board is expected to consider a motion addressing the purpose and need for the project, the scope of environmental review, and alternatives to be considered in the draft EIS.

FTA and Sound Transit will comply with all applicable Federal environmental laws, regulations, and executive orders during the environmental review process. These requirements include, but are not limited to, the regulations of the Council on Environmental Quality implementing NEPA, and FTA's own NEPA regulations (40 CFR parts 1500-1508, and 23 CFR part 771); the air quality conformity regulations of the U.S. Environmental Protection Agency (EPA) (40 CFR part 93); the Section 404(b)(1) guidelines of EPA (40 CFR part 230); the regulations implementing Section 106 of the National Historic Preservation Act (36 CFR part 800); the regulations implementing Section 7 of the Endangered Species Act (50 CFR part 402); Section 4(f) of the Dept. of Transportation Act (23 CFR part 774); Executive Orders 12898 on Environmental Justice, 11988 on floodplain management, and 11990 on wetlands; and DOT Order 5610.2(a) on Environmental Justice.

Paperwork Reduction. The Paperwork Reduction Act seeks, in part, to minimize the cost to the taxpayer of the creation, collection, maintenance, use, dissemination, and disposition of information. Consistent with this goal and with principles of economy and efficiency in government, FTA limits as much as possible the distribution of complete sets of printed environmental documents. Accordingly, absent a specific request for a complete printed set of environmental documents (preferably in advance of printing), Sound Transit will distribute only the executive summary of the environmental document together with a compact disc of the complete environmental document. A complete printed set of the environmental document will be available for review at the grantee's offices and elsewhere; an electronic copy of the complete environmental document will also be available on Sound Transit's Web page.

Issued on: September 6, 2012.
Kenneth A. Feldman,
Deputy Regional Administrator, FTA Region 10.

[FR Doc. 2012-22823 Filed 9-14-12; 8:45 am]

BILLING CODE P